DEPARTMENT OF COMMERCE

International Trade Administration

[A-583-837]

Polyethylene Terephthalate Film From Taiwan: Partial Rescission of Antidumping Duty Administrative Review; 2012-2013

AGENCY: Enforcement and Compliance, formerly Import Administration, International Trade Administration, Department of Commerce.

DATES: Effective Date: January 8, 2014.

FOR FURTHER INFORMATION CONTACT: Toni Page, Enforcement and Compliance, AD/CVD Operations, Office VII, International Trade Administration, U.S. Department of Commerce, 14th Street and Constitution Avenue NW., Washington, DC 20230; telephone: (202) 482-1398.

Background

On July 2, 2013, the Department of Commerce (the Department) published a notice of opportunity to request an administrative review of the antidumping duty (AD) order on polyethylene terephthalate film (PET film) from Taiwan covering the period July 1, 2012 through June 30, 2013.¹ The Department received a timely request from Petitioners ² for an AD administrative review of two companies: Nan Ya Plastics Corporation (Nan Ya) and Shinkong Materials Technology Corporation (Shinkong).³ Nan Ya also timely requested a review of itself.⁴ On August 28, 2013, the Department published a notice of initiation of an administrative review of the AD order on PET film from Taiwan with respect to Nan Ya and Shinkong.⁵ On December 12, 2013, Petitioners timely withdrew their request for reviews of both Nan Ya and Shinkong.⁶

¹ See Antidumping or Countervailing Duty Order, Finding, or Suspended Investigation; Opportunity To Request Administrative Review, 78 FR 39710 (July 2, 2013).

² Petitioners are DuPont Teijin Films, Mitsubishi Polyester Film, Inc., and SKC, Inc.

³ See Letter to the Department from Petitioners “Polyethylene Terephthalate (PET) Film, Sheet, and Strip from Taiwan: Request for Antidumping Duty Administrative Review” (July 31, 2013).

⁴ See Letter to the Department from Nan Ya Re: Polyethylene Terephthalate (PET) Film from Taiwan (July 31, 2013).

⁵ See Initiation of Antidumping and Countervailing Duty Administrative Reviews and Requests for Revocation in Part, 78 FR 53128 (August 28, 2013).

⁶ See Letter to the Department from Petitioners “Polyethylene Terephthalate (PET) Film, Sheet, and Strip from Taiwan: Withdrawal of Request for Antidumping Duty Administrative Review” (December 12, 2013).

Rescission, in Part

Pursuant to 19 CFR 351.213(d)(1), the Department will rescind an administrative review, in whole or in part, if a party that requested the review withdraws the request within 90 days of the date of publication of the notice of initiation of the requested review. Petitioners timely submitted a withdrawal request within the 90-day period (i.e., before December 12, 2013).⁷ Because Shinkong did not request a review for itself, we are rescinding this administrative review of the AD order on PET film from Taiwan for this company, consistent with 19 CFR 351.213(d)(1). Nan Ya did not submit a withdrawal request; therefore, we will proceed with an administrative review of this company.

⁷ As explained in the memorandum from the Assistant Secretary for Enforcement and Compliance, the Department exercised its discretion to toll deadlines for the duration of the closure of the Federal Government from October 1, through October 16, 2013. See Memorandum for the Record from Paul Piquado, Assistant Secretary for Enforcement and Compliance, “Deadlines Affected by the Shutdown of the Federal Government” (October 18, 2013). Therefore, all deadlines in this segment of the proceeding were extended by 16 days, thus extending the deadline for filing a withdrawal request from November 26, 2013, until December 12, 2013.

Assessment

The Department will instruct U.S. Customs and Border Protection (CBP) to assess ADs on all appropriate entries. Shinkong shall be assessed ADs at rates equal to the cash deposit of estimated ADs required at the time of entry, or withdrawal from warehouse, for consumption, during the period July 1, 2012, through June 30, 2013, in accordance with 19 CFR 351.212(c)(1)(i). The Department intends to issue appropriate assessment instructions to CBP 15 days after publication of this notice.

Notification Regarding Administrative Protective Orders

This notice also serves as a reminder to parties subject to the administrative protective order (APO) of their responsibility concerning the disposition of proprietary information disclosed under an APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: January 2, 2014.
Christian Marsh,
Deputy Assistant Secretary for Antidumping and Countervailing Duty Operations.

[FR Doc. 2014-00111 Filed 1-7-14; 8:45 am]

BILLING CODE 3510-DS-P